DEPARTMENT OF JUSTICE

Drug Enforcement Administration

[Docket No. DEA-392]

Bulk Manufacturer of Controlled Substances Application: Research Triangle Institute

ACTION: Notice of application.

DATES: Registered bulk manufacturers of the affected basic classes, and applicants therefore, may file written comments on or objections to the issuance of the proposed registration on or before September 30, 2019.

ADDRESSES: Written comments should be sent to: Drug Enforcement Administration, Attention: DEA Federal Register Representative/DPW, 8701 Morrissette Drive, Springfield, Virginia 22152.

SUPPLEMENTARY INFORMATION:

In accordance with 21 CFR 1301.33(a), this is notice that on May 23, 2019, Research Triangle Institute, 3040 East Cornwallis Road, Hermann Building, Room 106, Research Triangle Park, North Carolina 27709, applied to be registered as a bulk manufacturer of the following basic class of controlled substance:

Controlled substance | Drug code | Schedule
Tetrahydrocannabinols | 7370 | I

The company will manufacture via synthesis, Tetrahydrocannabinols (7370) for use by customers as analytical reference standards.

Dated: July 16, 2019.
John J. Martin,
Assistant Administrator.

[FR Doc. 2019-16175 Filed 7-29-19; 8:45 am]

BILLING CODE 4410-09-P